DEPARTMENT OF STATE

[Public Notice: 9788]

In the Matter of the Amendment of the Designation of Al-Nusrah Front (and Other Aliases) as a Specially Designated Global Terrorist

Based upon a review of the administrative record assembled in this matter, and in consultation with the Attorney General and the Secretary of the Treasury, I have concluded that there is a sufficient factual basis to find that Al-Nusrah Front (and other aliases), uses the alias Jabhat Fath al Sham, also known as Jabhat Fath al-Sham, also known as Jabhat Fatah al-Sham, also known as Jabhat Fateh al-Sham, also known as Fatah al-Sham Front, also known as Fateh Al-Sham Front, also known as Conquest of the Levant Front, also known as The Front for liberation of al Sham, also known as Front for the Conquest of Syria/the Levant, also known as Front for the Liberation of the Levant, also known as Front for the Conquest of Syria.

Therefore, pursuant to Section 1(b) of Executive Order 13224, I hereby amend the designation of Al-Nusrah Front as a Specially Designated Global Terrorist to include the following new aliases: Jabhat Fath al Sham, also known as Jabhat Fath al-Sham, also known as Jabhat Fatah al-Sham, also known as Jabhat Fateh al-Sham, also known as Fatah al-Sham Front, also known as Fateh Al-Sham Front, also known as Conquest of the Levant Front, also known as The Front for liberation of al Sham, also known as Front for the Conquest of Syria/the Levant, also known as Front for the Liberation of the Levant, also known as Front for the Conquest of Syria.

This determination shall be published in the Federal Register.

Dated: October 19, 2016.
John F. Kerry,
Secretary of State.

[FR Doc. 2016-27317 Filed 11-10-16; 8:45 am]

BILLING CODE 4710-AD-P